DEPARTMENT OF HEALTH AND HUMAN SERVICES

Centers for Disease Control and Prevention

Statement of Organization, Functions and Delegations of Authority

Part C (Centers for Disease Control and Prevention) of the Statement of Organization, Functions, and Delegations of Authority of the Department of Health and Human Services 45 FR 67772-76, dated October 14, 1980, and corrected at 45 FR 69296, October 20, 1980, as amended most recently at 73 FR 6728, dated February 2, 2008, is amended to reflect the reorganization of the National Center for Health Marketing, Coordinating Center for Health Information and Service, Centers for Disease Control and Prevention.

Section C-B, Organization and Functions, is hereby amended as follows: Delete in their entirety the functional statements for the National Center for Health Marketing (CPB), and insert the following:

National Center for Health Marketing (CPB). The mission of the National Center for Health Marketing (NCHM) is to protect and promote the public's health through collaborative and innovative health marketing programs, products, and services that are customer-centered, science-based, and high-impact.

In carrying out its mission, NCHM: (1) Ensures the Centers for Disease Control and Prevention (CDC) has the necessary marketing and prevention research data to develop information, interventions, and programs that respond to customers' needs, values, and uses; (2) develops and evaluates rigorous research-based strategies for providing information, programs, and services; (3) develops and tests communication messages and programs for public and professional audiences; (4) ensures that CDC risk and emergency communication messages are effectively delivered to targeted audiences; (5) works collaboratively to manage the CDC brand and ensures the CDC brand/identity is promoted throughout all CDC marketing/communication channels; (6) provides value added cross-cutting scientific support to ensure the best available public health science is rapidly and reliably translated into effective practice and policy; (7) ensures efficient, focused use of CDC's expertise and mechanisms for delivering health information and services; (8) ensures customers have effective, real-time access to needed health and safety information, interventions, and programs through communication channels they prefer; (9) delivers CDC information and services to the public; (10) ensures effective strategic partnerships and alliances to extend CDC's reach; (11) increases public awareness and partner actions to enhance the public health infrastructure; (12) helps people understand public health and its relevance and value to people across all life stages; (13) fosters the development and/or improvement of methods by which the partnership of federal, state, and local public health agencies can assure the coordinated and effective establishment of priorities and responses to public health problems; (14) maintains a forum for communication, coordination, collaboration, and consensus among the National Centers (NC) of CDC, public agencies, and private organizations concerned with ensuring the quality of public health practice; (15) works collaboratively with academic institutions, especially schools of public health and departments of preventive medicine, to develop and evaluate all aspects of marketing and communication elements; (16) provides a central service for consultation, design, production, and evaluation of media and instructional services to support CDC's delivery of public health messages; (17) manages marketing-related shared services and in carrying out the above functions, collaborates, as appropriate, with other Coordinating Centers/Coordinating Offices (CC/CO), NCs, and Staff Offices (SO) of CDC; (18) oversees the management, development, implementation, and evaluation of CDC's primary Web site, http://www.cdc.gov and serves as a CDC-wide resource for communication technologies design, usability, and maintenance; (19) leads CDC's e-health marketing/communication efforts; and (20) leads NCHM efforts to apply new technologies, social networks, virtual worlds, and other new/emerging technologies to develop, enhance, maintain and deliver CDC information.

Office of the Director (CPB1). (1) Manages, directs, coordinates, and evaluates the activities of NCHM; (2) develops goals and objectives and provides leadership, policy formation, scientific oversight, and guidance in program planning, development, and integration; (3) coordinates assistance and oversight provided by NCHM to other CDC components, federal, state, and local government agencies, and the private sector; (4) chairs the CDC Excellence in Marketing Committee; (5) provides leadership and coordination for NCHM crosscutting programs including Global Health Marketing, Emergency Preparedness, Client and Collaborator Relations, and other center and agency-wide priority programs; (6) establishes, administers, and coordinates CDC's health communication and marketing policies to ensure communication efforts reflect the scientific integrity of all CDC research, programs, and activities, and information is factual, accurate, and targeted toward improving public health; (7) oversees NCHM-wide administrative and program services, and coordinates or assures coordination with the appropriate CDC offices on administrative and program matters; (8) promotes, stimulates, conducts, and supports research on health communication topics of CDC-wide interest; (9) maintains liaison with officials from the Department of Health and Human Services (HHS), other federal and state public health agencies, and non-profit and voluntary health agencies to coordinate health communication programs of mutual interest and concern; (10) manages and coordinates staff professional development trainings related to health marketing and health communication; (11) provides leadership and coordination for NCHM client and collaborator relationship activities; (12) manages and coordinates HHS clearance for CDC communications and marketing programs and related products, and Office of Management and Budget (OMB) clearance submissions for marketing and communication research; (13) develops new mechanisms for agency-level communications with the public including the CDC-INFO hotline and e-mail response systems, CDC publications system, electronic journals and newsletters, and subscription e-mail systems; and (14) establishes and manages a unified, comprehensive, high-quality CDC presence at selected public health conferences and health expositions.

Business Services Office (CPB13). (1) Provides leadership, oversight, and guidance in the management and operations of NCHM's programs; (2) plans, coordinates, and provides administrative management support, advice, and guidance to NCHM, in the areas of fiscal management, personnel, travel, and other administrative services; (3) coordinates the development of the NCHM annual budget submission and spending plans; (4) directs and coordinates the activities of the office; (5) conducts management analyses of NCHM programs, resources, and staff to ensure optimal utilization of resources and accomplishment of program objectives; (6) plans, allocates, and monitors NCHM resources; (7) maintains liaison and collaborates with other CDC components and external organizations in support of NCHM management and operations; (8) plans, allocates, and monitors NCHM-wide administrative resources; (9) works closely with other federal agencies involved with NCHM interagency agreements; (10) coordinates NCHM requirements relating to procurement, materiel management, and interagency agreements; (11) develops and implements administrative policies, procedures, and operations, as appropriate for NCHM, and prepares special reports and studies, as required, in the administrative management areas; (12) provides coordinated services to NCHM for all internal conference/meeting management; and (13) collaborates, as appropriate, with the CDC Office of the Director, other CDC offices, domestic and international agencies and organizations in carrying out the above functions.

Extramural Services Activity (CPB132). (1) Performs administrative management functions for extramural programs which are linked to research and non-research activities of NCI-IM and other CC/COs that utilize NCHM's and/or CCHIS's extramural mechanisms; (2) provides expertise in the funding and administration of extramural activities, including grants, cooperative agreements and contracts; (3) triages linked research projects and solicits peer review services from the Office of the Chief Science Officer; (4) conducts annual program planning activities and plans the award process cycle with NCHM, other CC/CO/NCs and PGO staff, (5) serves as the primary point of contact with PGO; (6) provides technical consultation on HHS and CDC/PGO grant and cooperative agreement policy and regulations; (7) provides fiscal management and stewardship of selected grants, contracts, and cooperative agreements; and (8) coordinates NCHM requirements relating to selected contracts, grants, cooperative agreements, and reimbursable agreements.

MMWR Office (CPB14). (1) Manages the MMWR series of publications including the MMWR Recommendations and Reports, CDC Surveillance Summaries, and Annual Summary of Notifiable Diseases; and (2) develops, plans, coordinates, edits, and produces the MMWR series, including the MMWR Recommendations and Reports, CDC Surveillance Summaries, and Annual Summary of Notifiable Diseases.

Health Communication Science Office (CPB15). The Health Communication Science Office (HCSO): (1) Serves as the principal advisor to the CO/NC director on communication and marketing science, research and practice, (2) leads respective CO/NC strategic planning for communication and marketing science programs and projects; (3) serves as key focal point for integrating CO/NC communications/health messages into cohesive marketing campaigns targeted to defined audiences to advance CDC's health protection goals; (4) collaborates with other CO/NC in the development of marketing communications targeted to populations within certain life stages or who would otherwise benefit from a cross-functional approach; (5) ensures use of scientifically sound research for marketing and communication programs and projects; (6) serves as liaison to internal and external groups (this function does not apply to the National Center for Health Statistics [NCHS]); (7) develops and manages relationships with internal and external partners and customers (this function does not apply to the National Center for Environmental Health Agency for Toxic Substances and Disease Registry nor to the NCHS); (8) ensures accurate, accessible, timely, and effective translation of science for use by multiple audiences (this function does not apply to NCHS); (9) leads identification and implementation of information dissemination channels (this function does not apply to NCHS); (10) supervises and manages HCSO activities, programs, and staff; (11) leads audience segmentation research; (12) analyzing context, situation, and environment to inform Center-wide communication and marketing programs and projects; (13) develops and manages clearance systems (this function does not apply to NCHS); (14) provides training and technical assistance; (15) collaborates on health media production, including graphics and broadcast production; (16) provides project management expertise (this function does not apply to NCHS); (17) collaborates on CDC brand management activities; (18) collaborates with CDC media relations staff to ensure consistent and timely translation of center-specific health information to multiple audiences (this function does not apply to NCHS).

The following functions (19-21) apply only to the National Center for Environmental Health Agency for Toxic Substances and Disease Registry: (19) collaborates with external organizations and the news, public service, and entertainment and other media to ensure that effective findings and their implications for public health reach the public; (20) collaborates closely with Divisions to produce materials designed for use by the news media, including press releases, letters to the editor, public service announcements, television programming, video news releases, and other electronic and printed materials; (21) coordinates the development and maintenance of center/agency-wide information systems through an internet home page.

The following functions (22-23) apply only to the National Center for Health Statistics: (22) serves as the liaison to internal and external groups for health marketing activities; and (23) provides project management expertise for health marketing activities.

Division of Health Communication and Marketing (CPBC). (1) Provides leadership in the development of CDC's priorities, strategies and practices for effective health communication and marketing to a wide range of target audiences; (2) provides a CDC-wide forum for the sharing of health communication and marketing information; collaboration across programs; and discussion, development and implementation of health marketing policies and practices; (3) assists the CC/CO/NC/SOs of CDC in conducting formative, process and outcome research, and evaluation of specific applications of health communication and marketing in program areas; (4) assists the CC/CO/NC/SOs in identifying appropriate target audiences and messages; (5) assists the CC/CO/NC/SOs and their constituents in identifying and building expertise and state-of-the-art technology, logistical support, and other capacities required for effective health communication and marketing; (6) systematically conducts, collects, assesses and disseminates health communication and marketing research, evaluation results, and information on trends and emerging issues; (7) provides leadership for and ensuring coordination of risk, emergency, and terrorism communication; and (8) conducts evidence-based reviews of effective community health interventions.

Office of the Director (CPBC1). (1) Develops, manages, directs, and coordinates the implementation of strategic priorities and programmatic activities for the division; (2) establishes division goals and objectives; (3) provides oversight and coordination for division activities including personnel, budget, and administrative functions; (4) advises the directors of NCHM, CCHIS, CDC, and other CC/CO/NC/SOs on all matters related to health communication and marketing; (5) ensures CDC health marketing and communication activities follow policy directions established by the HHS Assistant Secretary for Public Affairs; (6) provides leadership in the development of CDC's priorities, strategies, and practices for effective health communication and marketing activities; (7) establishes strategy and oversight for emergency and risk communication efforts; (8) produces periodic reports and publications; (9) serves as point of contact and is responsible for agency and CC/CO/NC coordination for established programmatic activities as well as new initiatives; and (10) provides scientific leadership and guidance to the division.

Marketing and Communication Strategy Branch (CPBCB). (1) Provides a broad range of support for consultation, coordination, and development of health communication and marketing program efforts across the agency; (2) identifies and pursues opportunities for bundling, embedding, and joint dissemination of CDC information to more effectively reach audiences; (3) monitors and refines strategies and messages based on evaluation and feedback mechanisms; (4) consults on conceptualizing, developing, planning, executing, and evaluating CDC health marketing and communication activities and campaigns, media buys, Public Service Announcements (PSA), and other CDC information; (5) establishes measures of success/effectiveness of CDC communication efforts and provides guidance to CDC programs on applying these measures; (6) ensures analytic function for interpretation of data from centralized marketing databases, sources of environmental scanning, and communication literature for use in development and implementation of strategies for communication activities; (7) provides an integrated marketing perspective to data collection and CDC data resources, using data from various sources to develop a more complete picture of the public and its health concerns/interests and to address cross cutting issues; (8) provides for efficient, agency-wide access to consumer-oriented databases that can help support public health marketing; (9) sponsors/initiates original health communication and marketing research; (10) manages a repository of CDC and external research on the effectiveness of programs and interventions (both for public and sector audiences), and promotes the use of such evidence throughout CDC; (11) ensures that the content of CDC scientific communications is accessible (available, understandable, actionable) to audiences that may have specific health literacy needs; (12) identifies and implements strategies for health literacy and multilingual translation and delivery of CDC information tailored to specific audiences for maximum health impact; (13) tailors science-based information to specific audiences based on the knowledge, literacy levels, and language, culture, interests, and level of scientific sophistication of those audiences; (14) identifies and implements strategies for translation and delivery of CDC information to key targeted audiences for maximum health impact; (15) directs, develops, and/or collaborates on channels for reaching the public with health messages that positively impact health; and (16) provides for systematic mechanisms for gaining public input on health issues and priorities (e.g., advisory mechanisms, focus groups, polling, legislative and media tracking) and for the systematic application of knowledge gained from such input into agency decision making.

Emergency and Risk Communication Branch (CPBCC). (1) Identifies and implements strategies for translation and delivery of CDC's risk and emergency communication messages to key targeted audiences for maximum health impact; (2) monitors, evaluates, and refines risk and emergency communication messages and channel selection, content, and use based on feedback mechanisms; (3) evaluates the reach and effectiveness of CDC's risk and emergency communication messages and products; (4) ensures the content of CDC's risk and emergency communication messages are accessible (available, understandable, actionable) and disseminated to the public and target audiences; (5) tailors science based information related to risk and emergency communication messages for key sector audiences using knowledge of the interests and level of scientific sophistication of those audiences; (6) manages, evaluates, and coordinates with selected/major channels CDC uses to push risk and emergency communication messages outward (e.g., media, distance learning, broadcast/satellite capability, messaging through Health Alert Network and the clinician registry, postings on the CDC website, and community and partner outreach); (7) manages and evaluates the content during national emergencies or terrorism events on selected/major channels the public uses to contact CDC (e.g., Internet, phone hotlines, public exhibition areas); (8) provides an integrated marketing perspective to risk emergency communication messages data collection and CDC data resources, using data from various sources to develop a more complete picture of the public and its health concerns/interests; (9) provides for systematic mechanisms for gaining public input on risk and emergency communication messages (e.g., advisory mechanisms, focus groups, polling, legislative inquiries, and media tracking), for getting customer feedback on CDC programs (Web site and 800 number feedback, user surveys, feedback from partners, media tracking), and for the systematic application of knowledge gained from such input into agency decision making; (10) sponsors/initiates original research related to risk and emergency communication messages on customer needs and interests; needs and interests of key sectors and partners; audience segmentation; and approaches to bundling and packaging of CDC offerings; and (11) develops and manages selected channels to deliver national emergency and terrorism-related messages.

Community Guide Branch (CPBCD). (1) Convenes and supports the independent Task Force on Community Preventive Services, which develops evidence-based recommendations for the use or non-use of population-based health interventions; (2) produces and promotes the use of the Guide to Community Preventive Services (aka Community Guide) which is a compilation of the systematic reviews, evidence-based recommendations, and research needs related to best public health practices; (3) performs evidence reviews of the efficacy and effectiveness of prevention activities not associated with the Community Guide; (4) assists CDC and other federal and non-federal partners in understanding, using, refining, and communicating methods for conducting systematic reviews; (5) assists CDC and other federal and non-federal partners in linking reviews of evidence to guidelines development and/or program implementation; (6) coordinates and manages large and diverse teams of internal and external partners in the systematic review process; (7) coordinates and manages a working group of CDC, HHS, and nongovernmental partners to develop and/or refine methods for conducting systematic reviews; (8) provides consultations for implementing Community Guide recommended strategies; (9) coordinates and manages a working group of CDC, HHS and nongovernmental partners to diffuse Community Guide reviews, recommendations, and research needs to appropriate audiences throughout the U.S. health care and public health systems; (10) participates in the development of national and regional public/private partnerships to enhance prevention research and the translation of evidence into policy and action; (11) conducts selected scientific evaluation of the center or division-related prevention activities; (12) communicates the Community Guide reviews, recommendations, and research needs beyond the Morbidity and Mortality Weekly Report (MMWR) and the American Journal of Preventive Medicine/AJPM, publications via other journals, books, the world wide Web, and other media; (13) designs and conducts programmatic, process and outcome evaluation strategies for all stages of development and diffusion of the Community Guide; and (14) assists in making recommendations for prevention and policy decisions.

Division of Partnerships and Strategic Alliances (CPBD). (1) Provides leadership in the development and coordination of high-priority partnerships and sets strategy and goals for working with private and public partnership sectors including business, health care, education, federal agencies, and faith and community organizations, the public health community, especially state and local health organizations and their regional and national affiliate organizations, and emergency planning, preparedness, and response partners; (2) identifies critical cross-CDC relationships to maximize CDC's success in achieving priority health goals; (3) develops protocols for partnership “triage” to ensure timely and effective coordination; (4) serves as the agency-level contact on significant issues for major partners, or priority target partners; (5) provides leadership in building strategic relationships with new partners and extending the range of existing partnerships; (6) develops and maintains a database for high-priority, cross-cutting relationships; (7) provides leadership in developing systematic mechanisms for gaining public and private sectors and public health systems' input on health issues and priorities; identifies and pursues opportunities for broadening the range of approaches used by programs; (8) provides leadership in identifying and implementing strategies for effective delivery of CDC information to key sector and public health systems' audiences; (9) provides targeted, science-based information for key sector audiences; (10) provides leadership in the development of new mechanisms for agency-level communications with specific sectors; (11) leads partner teams in Director's Emergency Operations Center (DEOC) for emergency planning, response, and recovery; (12) coordinates field assignees for public health systems and partnerships; and (13) manages program management and project officer coordination for all partnership cooperative agreements including those applications submitted under cross-cutting CDC umbrella cooperative agreements.

Office of the Director (CPBD 1). (1) Manages, directs, and coordinates the research agenda and activities of the division; (2) maintains partnership coordination database and directory; (3) develops strategy and planning, and provides leadership and guidance on strategic planning, policy, program and project priority planning and setting, program management and operations for agency-wide CDC partnerships; (4) identifies and prioritizes partnership sectors; (5) establishes division goals, objectives, and priorities; (6) monitors progress in implementation of projects and achievement of objectives; (7) provides management, administrative, and support services, and coordinates with the NCHM OD on program and administrative matters; (8) leads and supports the Excellence in Partnership Committee, representing the various CDC Centers and coordinating agency-wide partnership activities; (9) provides liaison on partnerships with other CDC organizations, other governmental agencies, private organizations, and other outside groups; (10) provides scientific leadership and guidance to the division; (11) leverages partner relationships to improve CDC's translation of science and research to practice; (12) leads activities to improve partner engagement as a means of informing CDC's science and practice; (13) collaborates with the CDC Foundation in its activities with businesses and business organizations; (14) assesses partners' needs and opportunities to enhance health protection; (15) coordinates and/or collaborates on CDC representation on HHS Healthy People 2010 and 2020; and (16) provides oversight for program management and project officer coordination for all partnership cooperative agreements including those applications submitted under cross-cutting CDC umbrella cooperative agreements.

Public Health Partners and Coordination Branch (CPBDB). (1) Provides leadership within CDC, with national public health organizations, and with governmental public health agencies to promote and support effective national partnerships for health promotion and disease prevention; (2) supports program management and project officers for all partnership cooperative agreements including those applications submitted under cross-cutting CDC umbrella cooperative agreements; (3) advises CC/CO/NC/SOs on program activities that strengthen the nation's public health system through effective linkages with governmental public health agencies and national public health organizations; (4) supports and encourages public health systems research aimed at strengthening the public health system with particular emphasis on optimizing performance of governmental public health agencies; (5) monitors and evaluates the nation's public health system with regard to emerging issues, system effectiveness and progress on achieving CDC's and the nation's public health goals; (6) provides knowledge and science based information critical to the effectiveness of the governmental public health systems to public health agencies; (7) provides leadership to CDC field staff in encouraging strong public health system capacity and partnerships; (8) establishes and maintains program linkages with the Office of Workforce and Career Development and the Office of the Chief of Public Health Practice to facilitate systems development; and (9) staffs the partner teams in the DEOC partner desk.

Private/Public Partner Sectors Branch (CPBDC). (1) Assures private and public sector, and state and local health organization management support in the selection, prioritization and implementation of CDC goals; (2) leverages partner relationships to improve CDC' s translation of science and research to practice; (3) supports activities to improve partner engagement as a means of informing CDC's science and practice; (4) provides leadership to CDC and other organizations to promote and support effective partnerships for health promotion and disease prevention in all partnership sectors; (5) provides leadership and supports CDC's activities related to business and worker organizations, public and private purchasers of health care, consumers, health care consultants, academic institutions, and others; (6) assists in coordinating support for CDC's interactions with business collaboration partners; (7) directs, coordinates, and evaluates critical CDC activities with major components of the health care sectors; (8) serves as a focal point for developing public and private sector communications on health care issues relevant to CDC's goals; (9) supports the collaboration with the CDC Foundation in its activities with businesses and business organizations; (10) establishes data systems and knowledge required to support public private alliances; (11) coordinates collaborative activities of the branch with other NCs, federal agencies, professional societies, and private health organizations; (12) assures ongoing, effective communication between the CDC and key educational organizations on issues related to the nation's health; (13) represents CDC to private sector organizations such as the Joint Commission on Accreditation of Healthcare Organizations, the National Quality Forum, the National Committee for Quality Assurance, the Quality Interagency Coordinating Task Force, the National Quality Report, the Institute for Healthcare Improvement, and others; (14) assists educational organizations in implementing health interventions to reduce high-priority health risks among student populations; (15) collaborates with other components of CDC, Public Health Service, and HHS, the U.S. Department of Education and other federal agencies; national professional, voluntary, and philanthropic organizations; and international agencies and other organizations as appropriate; (16) provides a federal partner interface with CDC; (17) builds networks and partner relationships; (18) provides leadership and support to CDC's activities related to foundations, faith, and community organizations, their constituencies, and others; and (19) provides access for faith- and-community-based organizations to compete for federal funds supporting delivery of public services, including health-related services.

Division of Electronic Health Marketing (CPBG). (1) Supports NCHM and CDC through the creation, design, development, and evaluation of effective communication technologies that enhance the presentation and distribution of CDC's products and services; (2) assists CDC information developers in planning, designing, usability testing, and maintaining Web sites, mobile applications/devices, and other communication technologies; (3) provides leadership and management for CDC's Web site (http://www.cdc.gov) and provides overall management, guidance, and direction for CDC Web sites and other communication technologies; (4) develops a common user interface for CDC Web sites and ensures CDC branding across CDC's sites and other electronic products/services; (5) provides leadership for CDC-INFO, CDC's telephone, e-mail, and fulfillment services center; (6) conducts and supports research in user experience and communication technology areas in collaboration with other CDC/HHS organizations; (7) creates and distributes tools, standards/guidelines, and other resources to assist CDC information developers in designing usable, useful, and accessible Web sites and other communication technologies; (8) leads, coordinates, and/or supports the identification, evaluation, and implementation of new communication technologies that are relevant to CDC's mission and goals; (9) stays abreast of emerging and new communications technologies and identifies appropriate ones to adopt; (10) provides in-depth professional development in e-health and communication technologies research, design, and evaluation to CDC staff/contractors; (11) provides agency-wide leadership, coordination, and/or support of CDC's presence in online social networks; and (12) leads, coordinates, and/or supports online collaborations with partners.

Office of the Director (CPBG1). (1) Develops, manages, directs, and coordinates the implementation of strategic priorities and programmatic activities of the division; (2) establishes division goals and objectives; (3) provides oversight and coordination for division activities including personnel, budget and administrative functions; (4) advises the directors of NCHM, CCHIS, CDC, and the CC/CO/NC/SOs on all matters related to e-health marketing, new media, social networks, and user experience; (5) ensures CDC's e-health activities follow policy directions established by the HHS Assistant Secretary for Public Affairs, OMB, and others; (6) provides leadership in the development of CDC's priorities, strategies, and practices for effective e-health marketing, new media, social networks, and user experience activities; (7) produces periodic reports and publications; (8) serves as point of contact and is responsible for agency, CC/CO/NC/SOs coordination for established c-Health programmatic activities as well as new initiatives; (9) provides scientific leadership and guidance to the division; (10) serves as NCHIM liaison with the National Center for Public Health Informatics and other CDC CC/CO/NC/SOs for e-health-related activities; (11) collaborates with the Office of Workforce and Career Development and others to provide in-depth training and professional development in research-based communication technologies design and development; (12) leads and coordinates CDC.gov's governance bodies (CDC.gov Council, CDC.gov Executive Board, CDC.gov Executive Committee, and related workgroups), and e-Health-related Communities of Practice and work groups; and (13) provides oversight to CDC.gov and CDC-de web efforts.

Digital Content and Marketing Branch (CPBGB). (1) Develops policies, guidance, and best practices to improve the quality of CDC.gov content and marketing activities; (2) coordinates CDC.gov content and marketing activities with CDC NCs and other internal and external organizations; (3) assists with planning, development, deployment, and maintenance of a Content Management System for CDC.gov and other CDC sites; (4) assesses CDC marketing priorities and ensures those priorities are reflected on CDC.gov; (5) coordinates CDC's risk and emergency communications via e-health communication channels; (6) assists CDC CC/CO/NC/SOs with planning, designing, and evaluating content and marketing efforts for CDC Web sites and other communication technologies using research-based approaches/methodologies; (7) manages CDC's primary Web site, http://www.cdc.gov, and provides overall management, content coordination, technology coordination, site maintenance and operations; (8) manages CDC-INFO, CDC's call center, e-mail responses, and fulfillment contracts; (9) identifies gaps in CDC.gov content and works with NCs to fill those gaps; and (10) markets CDC's e-health products, services, and tools and reporting the results of those marketing efforts.

Interactive Media and User Experience Branch (CPBGC). (1) Creates/provides data collection tools to assess the broad range of user needs, requirements, limitations, and satisfaction levels for CDC Web sites and other communication technologies; (2) develops evidence-based guidelines, templates, and tools to guide CDC information developers in design/developing effective e-Health efforts; (3) identifies potential communication technologies (hardware, software, and applications) and determines their feasibility for application to CDC products and services; (4) assists CDC CC/CO/NC/SOs in implementing relevant emerging technologies and aiding in diffusing new technologies; (5) evaluates emerging communication technologies; (6) provides user centered design services (user data collection, prototype development, iterative usability testing); (7) collects/analyzes user data/metrics from communication technologies (Web usage statistics, online user performance tools, user satisfaction tools, search logs, and other sources) to assess system performance, usability, accessibility, and usefulness; (8) oversees the development and management of a state-of-the-art research/testing lab and training facility designed to research and test new communication technologies, design ideas, and the accessibility of older and newer software and technologies; (9) leads, coordinates, and/or supports NCHM efforts to identify, evaluate the feasibility of, and implement new and emerging communication technologies that are relevant to CDC's mission and goals; and (10) conducts and supports research in user experience, social networks, and new media and interactive communication technologies in collaboration with other CDC/HHS organizations.

Division of Creative Services (CPBH). (1) Manages and utilizes production facilities and resources to create effective programs for delivery of CDC information to key target audiences; (2) collaborates on development and production of communication campaigns, PSAs, and other CDC information and services that are a high priority for the agency and/or cross-cutting; (3) provides and manages CDC-wide services including graphic design and production (e.g., documents, posters, displays, visual presentations, etc.), writer editor services, scientific and event photographic services, and mechanisms to reach primary broadcast channels (e.g. broadcast, audio, and video); (4) collects and/or facilitates distribution of graphic, digital, and broadcast materials; (5) produces and collaborates on new broadcast communication mechanisms (e.g. HHS TV, CDC TV, radio/TV broadcasting, pod casting, web casting, and video-on-demand) for agency-level communications with the public and partners to include selection and promotion of content on selected channels and evaluation of its reach; (6) provides oversight for broadcast delivery mechanisms for inbound and outbound broadcast communications (e.g., press conferences, interviews); and (7) researches and works with other agency programs to develop new mechanisms to communicate with the public.

Office of the Director (CPBH1). (1) Develops, manages, directs, and coordinates the implementation of strategic priorities and programmatic activities of the division; (2) establishes division goals and objectives; (3) provides oversight and coordination for division activities including personnel, budget and administrative functions; (4) sets up and implements tracking and triage system for managing incoming requests for creative services as well as tracking progress in accomplishing task objectives and overall division performance measures; (5) develops and implements performance management measures for the division; (6) establishes and maintains quality assurance editing to ensure service and product quality are consistent with outside industry; (7) overseas customer service performance for CDC-wide service offerings; (8) manages project and information archives to facilitate knowledge management and organizational efficiency; (9) serves as point of contact for agency graphics and broadcast capabilities and is responsible for agency wide coordination for established graphics and broadcast programmatic activities and new initiatives; (10) provides scientific leadership and guidance to the division; and (11) manages the Global Health Odyssey, CDC's scientific museum and learning center.

Client Services Branch (CPBHB). (1) Accepts, tracks, and triages client requests for division services; (2) assigns all creative service requests from across the agency to appropriate division branches or teams; (3) manages and maintains an online request, work flow tracking, and program service indicator system; (4) manages large or multidisciplinary projects through a team of client service staff who serve as the division's creative project coordinators with other organizations within CDC; (5) gathers and monitors customer satisfaction information and addresses concerns as necessary; (6) monitors and manages performance, and evaluates and communicates findings to the division leadership, CC/COs, and Chief Management Officials for follow-up and potential action; (7) analyzes data about services being provided to be used to determine budget, equipment, staffing and training needs; (8) collaborates on the maintenance of the Public Health Image Library, an internet archive of CDC's scientific and historical photographs; and (9) provides scientific and event photography.

Graphic Services Branch (CPBHC). (1) Coordinates agency-wide graphics activities; (2) designs, develops, and produces graphic illustrations, scientific posters, desktop presentations, conference materials, brochures, newsletters, and exhibits; (3) provides high-end medical illustration and art design for CDC products and services; and (4) provides creative direction/leadership for graphics products to ensure consistency with established agency guidelines and quality standards set within the division.

Broadcast Branch (CPBHD). (1) Develops, produces and manages audio, video, and multimedia health media; (2) provides agency-wide and global communication capacity using state-of-the-art high-definition broadcast, Webcast and emerging health media delivery channels on a real time and/or recorded basis; (3) responsible for media asset management of all broadcast video and audio programming developed within CDC; (4) supports the communication needs of the CDC's DEOC to assure response capacity and capability for emergency broadcasts; (5) manages all CDC broadcast-grade audio and video production requirements; (6) develops and delivers television programming, in coordination with HITS, to deliver timely and accurate information to improve health and safety for the U.S. public and around the world; (7) provides in-house creation, duplication and format conversion of products including VHS, S-VHS, DVD, CD-R, DAT, Mini-Dy, Betacam-SP, Digital-Betacam, DVC Pro-HD and international formats such as PAL, SECAM, SECAM-Il; (8) keeps abreast of changing video formats to ensure CDC keeps pace; (9) provides audio-only production services including: broadcast-grade, in-house audio production, audio-for-video, audio sweetening, mixing and editing to picture, voice-over, narration, format-conversions and delivery; (10) provides professional consultation and support in the creation and production of emerging health media transmission technologies; (11) develops and collaborates on agency-wide communication products and processes through multimedia and digital/electronic methods; (12) produces graphic elements for national and international television broadcast programs, Web sites, and interactive CD-Rom and DVDs using state-of-the-art or leading edge technologies and expertise; (13) collaborates with other areas of NCHM, particularly the Division of Electronic Health Marketing, in reviewing potential communication technology; (14) provides audio/video engineering design, installation, setup and maintenance for the Division of Creative Services' facilities, CDC Director's press room, DEOC and the Continuity of Operations Site as required; (15) manages and provides leadership for the Public Health Training Network; (16) manages and coordinates the Public Health Grand Rounds, a program to disseminate the best practices in implementing public health activities; and (17) develops and manages distance education and health communication products to reach public health partners and professionals in support of health priorities.

Writer Editor Services Branch (CPBHE). (1) Provides production editing services for CDC's information products; (2) provides production editing services for Morbidity and Mortality Weekly Report (MMWR) publications, Emerging Infectious Diseases (EID) Journal, and Preventing Chronic Disease (PCD) Journal; (3) provides substantive editing services for CDC-authored written material; (4) provides copy editing services; (5) provides proofreading services; (6) provides Web editing services; (7) provides writing services, including research; and (8) provides editorial consulting services, and training in writing and editing.

After item (11) of the functional statement for the Office of the Director (CPC 1), National Center for Health Statistics (CPC), add the following: (12) serves as primary liaison between NCHS and the National Center for Health Marketing on communications and marketing science, and its associated research and practice; and (13) releases and disseminates all NCHS statistical products and related activities in a mariner consistent with OMB Federal Statistical Agency Directive No. 4.

After item (17) of the functional statement for the Office of the Director (CPE 1), National Center for Public Health Informatics (CPE), add the following: (18) serves as primary liaison between NCPHI and the National Center for Health Marketing on communications and marketing science, and its associated research and practice.

After item (9) of the functional statement for the Office of the Director (CTB 1), National Center for Environmental Health (CTB), add the following: (10) serves as primary liaison between NCEH and the National Center for Health Marketing on communications and marketing science, and its associated research and practice.

Delete in their entirety the title and function statement for the Office of Communications (CTB 12).

After item (9) of the functional statement for the Office of the Director (CTC 1), National Center for Injury Prevention and Control (CTC), add the following: (10) serves as primary liaison between NCIPC and the National Center for Health Marketing on communications and marketing science, and its associated research and practice.

Delete in their entirety the title and function statement for the Office of Communication Resources (CTC 14).

After item (6) of the functional statement for the Office of the Director (CUB 1), National Center on Birth Defects and Developmental Disabilities (CUB), add the following: (7) serves as primary liaison between NCBDDD and the National Center for Health Marketing on communications and marketing science, and its associated research and practice.

After item (10) of the functional statement for the Office of the Director (CUC1), National Center for Chronic Disease Prevention and Health Promotion (CUC), add the following: (11) serves as primary liaison between NCCDPHP and the National Center for Health Marketing on communications and marketing science, and its associated research and practice.

After item (16) of the functional statement for the Office of the Director (CVG1), National Center for Immunization and Respiratory Diseases (CVG), add the following: (17) serves as primary liaison between NCIRD and the National Center for Health Marketing on communications and marketing science, and its associated research and practice.

After item (14) of the functional statement for the Office of the Director (CVH 1), National Center for Zoonotic, Vector-borne, and Enteric Diseases (CVH), add the following: (15) serves as primary liaison between NCZVED and the National Center for Health Marketing on communications and marketing science, and its associated research and practice.

After item (23) of the functional statement for the Office of the Director (CVJ 1), National Center for HIV/AIDS, Viral Hepatitis, STD, and TB Prevention (CVJ), add the following: (24) serves as primary liaison between NCHHSTP and the National Center for Health Marketing on communications and marketing science, and its associated research and practice.

After item (10) of the functional statement for the Office of the Director (CVK1), National Center for Preparedness, Detection, and Control of Infectious Diseases (CVK), add the following: (11) serves as primary liaison between NCPDCID and the National Center for Health Marketing on communications and marketing science, and its associated research and practice.

Dated: April 2, 2008.
Joseph Henderson,
Chief Operating Officer, Centers for Disease Control and Prevention (CDC).

[FR Doc. E8-7823 Filed 4-14-08; 8:45 am]

BILLING CODE 4160-18-M